DEPARTMENT OF HEALTH AND HUMAN SERVICES

Centers for Medicare and Medicaid

42 CFR Part 411

Exclusions From Medicare and Limitations on Medicare Payment

CFR Correction

In Title 42 of the Code of Federal Regulations, Parts 400 to 413, revised as of October 1, 2010, make the following corrections:

1. On page 472, in § 411.353, in paragraph (g)(1)(i), remove the word “complied” and add “complies” in its place.

2. On page 483, in § 411.357:

a. In paragraph (b)(4)(ii)(A), remove the word “by” and add “through” in its place, and

b. In paragraph (b)(4)(ii)(B), remove the phrase “between the parties” and add “by the lessor to the lessee” in its place.

3. On page 488, in § 411.357, in paragraph (l)(3)(ii), remove the phrase “between the parties” and add “by the lessor to the lessee” in its place.

4. On page 490, in § 411.357:

a. Remove paragraphs (p)(1)(ii) and (iii);

b. Designate the last sentence of (p)(1)(i) introductory text as paragraph (p)(1)(ii) introductory text;

c. In new paragraph (p)(1)(ii)(A), remove the phrase “performed or” and add “performed on or” in its place; and

d. In new paragaph (p)(1)(ii)(B), remove the phrase “between the parties” and add “by the lessor to the lessee” in its place.

[FR Doc. 2011-25286 Filed 9-28-11; 8:45 am]

BILLING CODE 1505-01-D